DEPARTMENT OF COMMERCE

Foreign-Trade Zones Board

[Docket T-6-2011]

Foreign-Trade Zone 7, Temporary/Interim Manufacturing Authority, Baxter Healthcare of Puerto Rico, (Pharmaceutical and Nutritional Intravenous Bags and Administration Sets); Notice of Approval

On December 6, 2011, the Executive Secretary of the Foreign-Trade Zones (FTZ) Board filed an application submitted by the Puerto Rico Industrial Development Company, grantee of FTZ 7, requesting temporary/interim manufacturing (T/IM) authority, on behalf of Baxter Healthcare of Puerto Rico, to manufacture pharmaceutical and nutritional intravenous bags and administration sets under FTZ procedures within FTZ 7—Site 5, in Aibonito and Jayuya, Puerto Rico.

The application was processed in accordance with T/IM procedures, as authorized by FTZ Board Orders 1347 (69 FR 52857, 8/30/04) and 1480 (71 FR 55422, 9/22/06), including notice in the Federal Register inviting public comment (76 FR 77479, 12/13/2011). The FTZ staff examiner reviewed the application and determined that it meets the criteria for approval under T/IM procedures. Pursuant to the authority delegated to the FTZ Board Executive Secretary in the above-referenced Board Orders, the application is approved, effective this date, until February 15, 2014, subject to the FTZ Act and the Board's regulations, including Section 400.28.

Dated: February 15, 2012.
Andrew McGilvray,
Executive Secretary.

[FR Doc. 2012-4649 Filed 2-27-12; 8:45 am]

BILLING CODE P